DEPARTMENT OF COMMERCE

International Trade Administration

[A-580-903]

Polyethylene Terephthalate Sheet from the Republic of Korea: Final Determination of Sales at Less Than Fair Value

AGENCY: Enforcement and Compliance, International Trade Administration, Department of Commerce.

SUMMARY: The Department of Commerce (Commerce) determines that polyethylene terephthalate sheet (PET sheet) from the Republic of Korea (Korea) is being, or is likely to be, sold in the United States at less than fair value (LTFV) during the period of investigation (POI), July 1, 2018 through June 30, 2019. The final weighted-average dumping margins are listed below in the section entitled “Final Determination.”

DATES: Applicable July 22, 2020.

FOR FURTHER INFORMATION CONTACT: Katherine Sliney, AD/CVD Operations, Office III, Enforcement and Compliance, International Trade Administration, U.S. Department of Commerce, 1401 Constitution Avenue NW, Washington, DC 20230; telephone: (202) 482-2437.

SUPPLEMENTARY INFORMATION:

Background

On March 3, 2020, Commerce published the Preliminary Determination in this investigation, and invited interested parties to comment on our findings.¹ The petitioners in this investigation are Advanced Extrusion, Inc., Ex-Tech Plastics, Inc., and Multi-Plastics Extrusions, Inc. (collectively, the petitioners). The mandatory respondents subject to this investigation are the Jin Young Group ² and Plastech Col, Ltd. (Plastech). A summary of the events that occurred since Commerce published the Preliminary Determination, as well as a full discussion of the issues raised by parties for this final determination, may be found in the Issues and Decision Memorandum.³

¹ See Polyethylene Terephthalate Sheet from the Republic of Korea: Preliminary Affirmative Determination of Sales at Less Than Fair Value, Postponement of Final Determination, and Extension of Provisional Measures, 85 FR 12500 (March 3, 2020) (Preliminary Determination), and accompanying Preliminary Decision Memorandum.

² Commerce previously determined that the mandatory respondent, Jin Young Chemical Co., Ltd. (JYC) is affiliated with Jinyoung Co. Ltd. (JYL) within the meaning of section 771(33) of the Tariff Act of 1930, as amended (the Act) and also determined JYC and JYL to be a single entity (collectively, the Jin Young Group). See Memorandum, “Affiliation and Collapsing Memorandum for Jin Young Chemical Co., Ltd.,” dated March 4, 2020 (Collapsing Memo). On June 26, 2020, the Jin Young Group consented to withdraw its request for proprietary treatment of the identity of the Korean affiliate, JYL, in the event that Commerce continues to collapse JYC and the affiliate in the final determination. Because no party commented on the decision to collapse these companies, we continue to find the companies comprise a single entity and hereby treat all record references to JYL as public information on this record.

³ See Memorandum, “Issues and Decision Memorandum for the Final Determination in the Antidumping Duty Investigation of Polyethylene Terephthalate Sheet from the Republic of Korea,” dated concurrently with, and hereby adopted by, this notice (Issues and Decision Memorandum).

The Issues and Decision Memorandum is a public document and is available electronically via Enforcement and Compliance's Antidumping and Countervailing Duty Centralized Electronic Service System (ACCESS). ACCESS is available to registered users at https://access.trade.gov. In addition, a complete version of the Issues and Decision Memorandum can be accessed directly at http://enforcement.trade.gov/frn/index.html. The signed and electronic versions of the Issues and Decision Memorandum are identical in content.

Period of Investigation

The POI is July 1, 2018 through June 30, 2019.

Scope of the Investigation

The product covered by this investigation is PET sheet from Korea. For a complete description of the scope of this investigation, see Appendix I.

Scope Comments

On February 25, 2020, we issued a Preliminary Scope Memorandum.⁴ We received no scope case briefs from interested parties. Therefore, Commerce has made no changes to the scope of this investigation since the Preliminary Determination.

⁴ See Memorandum, “Antidumping Duty Investigations of Polyethylene Terephthalate Sheet from the Republic of Korea and the Sultanate of Oman: Preliminary Scope Decision Memorandum,” dated February 25, 2020 (Preliminary Scope Memorandum).

Analysis of Comments Received

All issues raised in the case briefs and rebuttal briefs submitted by interested parties in this proceeding are discussed in the Issues and Decision Memorandum. A list of the issues raised by parties and responded to by Commerce in the Issues and Decision Memorandum is attached to this notice as Appendix II.

Verification

Commerce normally verifies information relied upon in making its final determination, pursuant to section 782(i)(1) of the Act. However, during the course of this investigation, we were unable to conduct verification.⁵ Pursuant to section 776(a)(2)(D) of the Act, in situations where information has been provided but the information cannot be verified, Commerce will use “facts otherwise available” in reaching the applicable determination. Accordingly, we relied on facts available in making our final determination.

⁵ See Memorandum, “Cancellation of Verification,” dated April 7, 2020.

Changes Since the Preliminary Determination

Based on our analysis of the comments received and additional information obtained since our preliminary findings, we made certain changes to the margin calculations for the Jin Young Group since the Preliminary Determination. For a discussion of these changes, see the Issues and Decision Memorandum.

All-Others Rate

Section 735(c)(5)(A) of the Act provides that the estimated weighted-average dumping margin for all other producers and exporters not individually investigated shall be equal to the weighted average of the estimated weighted-average dumping margins established for individually investigated exporters and producers, excluding any margins that are zero, de minimis, or any margins determined entirely under section 776 of the Act.

Because the weighted-average dumping margin for Plastech Co., Ltd, the non-participating mandatory respondent is based entirely on adverse facts available,⁶ the rate Commerce calculated for the Jin Young Group is assigned as the rate for all other producers and exporters.

⁶ Commerce also assigned a rate based on adverse facts available to the following companies which did not submit a response to Commerce's initial request for quantity and value information: Chungdang Co., K Stout Co., Kemicolor Corp., KP Tech Ltd., Moojin Che, OKS Poly, Puyoung Industry Co., Samjin Plastic Co., Sangil Corp., SK Chemicals, Tae Kwang New Tech. Co., Ltd., and Unidesign Co.

Final Determination

The estimated weighted-average dumping margins are as follows:

Exporter/producer | Estimated weighted- average dumping margin (percent)
Jin Young Chemical Co., Ltd. (JYC) and Jinyoung Co. Ltd. (JYL) (collectively, the Jin Young Group) | 7.19
Plastech Co., Ltd. | 52.01
Chungdang Co | 52.01
K Stout Co | 52.01
Kemicolor Corp | 52.01
KP Tech Ltd. | 52.01
Moojin Che | 52.01
OKS Poly | 52.01
Puyoung Industry Co | 52.01
Samjin Plastic Co | 52.01
Sangil Corp | 52.01
SK Chemicals | 52.01
Tae Kwang New Tech. Co., Ltd. | 52.01
Unidesign Co | 52.01
All Others | 7.19

Disclosure

We intend to disclose to interested parties the calculations and analysis performed in this final determination within five days of any public announcement or, if there is no public announcement, within five days of the date of the publication of this notice to parties in this proceeding in accordance with 19 CFR 351.224(b).

Continuation of Suspension of Liquidation

In accordance with section 735(c)(1)(B) of the Act, we will instruct U.S. Customs and Border Protection (CBP) to continue the suspension of liquidation of all appropriate entries of PET sheet, as described in Appendix I of this notice, which were entered, or withdrawn from warehouse, for consumption on or after March 3, 2020, the date of publication of the Preliminary Determination of this investigation in the Federal Register. Further, Commerce will instruct CBP to require a cash deposit equal to the estimated amount by which the normal value exceeds the U.S. price as shown above.

Pursuant to section 735(c)(1)(B)(ii) of the Act, we will instruct CBP to require a cash deposit equal to the estimated amount by which the normal value exceeds the U.S. price as follows: (1) The cash deposit rate for the respondents listed above will be equal to the respondent-specific estimated weighted-average dumping margin determined in this final determination; (2) if the exporter is not a respondent identified above but the producer is, then the cash deposit rate will be equal to the respondent-specific estimated weighted-average dumping margin established for that producer of the subject merchandise; and (3) the cash deposit rate for all other producers and exporters will be equal to the all others estimated weighted-average dumping margin. These suspension of liquidation instructions will remain in effect until further notice.

International Trade Commission Notification

In accordance with section 735(d) of the Act, we will notify the International Trade Commission (ITC) of the final affirmative determination of sales at LTFV. Because the final determination in this proceeding is affirmative, in accordance with section 735(b)(2) of the Act, the ITC will make its final determination as to whether the domestic industry in the United States is materially injured, or threatened with material injury, by reason of imports, or sales (or the likelihood of sales) for importation of PET sheet no later than 45 days after our final determination. If the ITC determines that material injury or threat of material injury does not exist, the proceeding will be terminated, and all cash deposits will be refunded. If the ITC determines that material injury or threat of material injury does exist, Commerce will issue an antidumping duty order directing CBP to assess, upon further instruction by Commerce, antidumping duties on all imports of the subject merchandise, entered, or withdrawn from warehouse, for consumption on or after the effective date of the suspension of liquidation.

Notification Regarding Administrative Protective Order

This notice serves as the only reminder to parties subject to an administrative protective order (APO) of their responsibility concerning the disposition of proprietary information disclosed under APO in accordance with 19 CFR 351.305(a)(3). Timely notification of the return or destruction of APO materials or conversion to judicial protective order is hereby requested. Failure to comply with the regulations and the terms of an APO is a violation subject to sanction.

Notification to Interested Parties

We are issuing and publishing this determination and notice in accordance with sections 735(d) and 777(i) of the Act and 19 CFR 351.210(c).

Dated: July 16, 2020.
Jeffrey I. Kessler,
Assistant Secretary for Enforcement and Compliance.

Appendix I

Scope of the Investigation

The merchandise covered by this investigation is raw, pretreated, or primed polyethylene terephthalate sheet, whether extruded or coextruded, in nominal thicknesses of equal to or greater than 7 mil (0.007 inches or 177.8 µm) and not exceeding 45 mil (0.045 inches or 1143 µm) (PET sheet). The scope includes all PET sheet whether made from prime (virgin) inputs or recycled inputs, as well as any blends thereof. The scope includes all PET sheet meeting the above specifications regardless of width, color, surface treatment, coating, lamination, or other surface finish.

The merchandise subject to this investigation is properly classified under statistical reporting number 3920.62.0090 of the Harmonized Tariff Schedule of the United States (HTSUS). Although the HTSUS statistical reporting number is provided for convenience and customs purposes, the written description of the merchandise is dispositive.

Appendix II

List of Topics Discussed in the Issues and Decision Memorandum

I. Summary

II. Background

III. Scope Comments

IV. Scope of the Investigation

V. Changes Since the Preliminary Determination

VI. Discussion of the Issues

Comment 1: Whether to Grant JYC's Duty Drawback Adjustment

Comment 2: Whether to Revise JYC's Calculation of Home Market Credit

Comment 3: Selection of the Surrogate Short-Term U.S. Market Interest Rate

Comment 4: Whether to Grant JYC's Constructed Export Price Offset

VII. Recommendation

[FR Doc. 2020-15896 Filed 7-21-20; 8:45 am]

BILLING CODE 3510-DS-P